DEPARTMENT OF AGRICULTURE

Rural Utilities Service

7 CFR Part 1776

RIN 0572-AB93

Household Water Well System Grant Program

AGENCY: Rural Utilities Service, USDA.

ACTION: Proposed rule.

SUMMARY: The Rural Utilities Service (RUS), an agency delivering the United States Department of Agriculture's Rural Development Utilities Programs, is issuing regulations in order to establish the Household Water System Program as authorized by section 306E of the Consolidated Farm and Rural Development Act (CONACT). This rule will establish a lending program for the construction, refurbishing, and servicing of individually-owned household water well systems in rural areas that are or will be owned by the eligible individuals. In addition, the rule outlines the process by which applicants can apply for the program and how RUS will administer the grant program.

In the final rules section of this Federal Register, RUS is publishing this action as a direct final rule without prior proposal because RUS views this as a non-controversial action and anticipates no adverse comments. If no adverse comments are received in response to the direct final rule, no further action will be taken on this proposed rule and the action will become effective at the time specified in the direct final rule. If RUS receives adverse comments, a timely document will be published withdrawing the direct final rule and all public comments received will be addressed in a subsequent final rule based on this action.

DATES: Comments on this proposed action must be received by RUS or carry a postmark or equivalent no later than November 5, 2004.

ADDRESSES: Comments may be submitted by any of the following methods:

• Federal eRulemaking Portal: Go to http://www.regulations.gov. Follow the online instructions for submitting comments.

• Agency Web Site: http://www.usda.gov/rus/index2/Comments.htm. Follow the instructions for submitting comments.

• E-mail: RUSComments@usda.gov. Include in the subject line of the message “7 CFR 1776.”

• Mail: Addressed to Richard Annan, Acting Director, Program Development and Regulatory Analysis, Rural Utilities Service, United States Department of Agriculture, 1400 Independence Avenue, SW, STOP 1522, Washington, DC 20250-1522.

• Hand Delivery/Courier: Addressed to Richard Annan, Acting Director, Program Development and Regulatory Analysis, Rural Utilities Service, United States Department of Agriculture, 1400 Independence Avenue, SW, Room 5168-S, Washington, DC 20250-1522.

Instructions: All submissions received must include that agency name and the subject heading “7 CFR 1776”. All comments received must identify the name of the individual (and the name of the entity, if applicable) who is submitting the comment. All comments received will be posted without change to http://www.usda.gov/rus/index2/Comments.htm, including any personal information provided.

FOR FURTHER INFORMATION CONTACT: Cheryl Francis, Loan Specialist, Water Programs Division, Rural Utilities Service, U.S. Department of Agriculture, 1400 Independence Avenue, SW., Room 2239-S, Stop 1570, Washington, DC 20250-1570. Telephone (202) 720-1937. E-mail: Cheryl.Francis@usda.gov.

SUPPLEMENTARY INFORMATION: See the SUPPLEMENTARY INFORMATION provided in the direct final rule located in the Rules and Regulations direct final rule section of this Federal Register for the applicable SUPPLEMENTARY INFORMATION on this action.

Dated: September 2, 2004.
Curtis M. Anderson,
Acting Administrator, Rural Utilities Service.

[FR Doc. 04-22447 Filed 10-5-04; 8:45 am]

BILLING CODE 3410-15-P